ENVIRONMENTAL PROTECTION AGENCY

40 CFR Part 52

[EPA-R10-OAR-2023-0600; FRL-11593-03-R10]

Air Plan Approval; OR; Regional Haze Plan for the Second Implementation Period; Extension of the Comment Period

AGENCY: Environmental Protection Agency (EPA).

ACTION: Proposed rule; extension of the comment period.

SUMMARY: The Environmental Protection Agency (EPA) is extending the comment period for the proposed rulemaking entitled “Air Plan Approval; OR; Regional Haze Plan for the Second Implementation Period” that published in the Federal Register on February 23, 2024. The comment period is scheduled to close on March 25, 2024. However, in response to requests for additional time to develop and submit comments on the proposed rulemaking, the EPA is extending the comment period for an additional 30 days through April 24, 2024.

DATES: The comment period for the proposed rulemaking published February 23, 2024 (89 FR 13622), is extended. Comments must be received on or before April 24, 2024.

ADDRESSES: Submit your comments, identified by docket identification (ID) number EPA-R10-OAR-2023-0600, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Jeff Hunt, EPA Region 10, 1200 Sixth Avenue, Suite 155, Seattle, WA 98101, at (206) 553-0256 or hunt.jeff@epa.gov.

SUPPLEMENTARY INFORMATION: This document extends the public comment period established in the Federal Register of February 23, 2024 (89 FR 13622) (FRL-11593-01-R10) for 30 days, from March 25, 2024, to April 24, 2024.

This extension is in response to requests that the EPA received which asked for additional time to develop and submit comments on the proposed rulemaking. After considering several factors, the EPA believes it is appropriate to extend the comment period for 30 days to give stakeholders additional time to review the documents and prepare comments. As discussed in the Federal Register document of February 23, 2024 (89 FR 13622 (FRL-11593-01-R10)), the EPA is proposing approval of the regional haze state implementation plan revision submitted by Oregon on April 29, 2022, as supplemented on November 22, 2023, as satisfying applicable requirements under the Clean Air Act and the EPA's Regional Haze Rule for the program's second implementation period. If you have questions, consult the person listed under FOR FURTHER INFORMATION CONTACT.

List of Subjects in 40 CFR Part 52

Environmental protection, Air pollution control, Incorporation by reference, Intergovernmental relations, Ozone, Particulate matter, Reporting and recordkeeping requirements, Sulfur oxides, Volatile organic compounds.

Authority: 42 U.S.C. 7401 et seq.

Dated: March 8, 2024.
Casey Sixkiller,
Regional Administrator, Region 10.

[FR Doc. 2024-05510 Filed 3-14-24; 8:45 am]

BILLING CODE 6560-50-P